DEPARTMENT OF COMMERCE

Foreign-Trade Zones Board

[B-69-2015]

Foreign-Trade Zone (FTZ) 39—Dallas, Texas; Authorization of Production Activity; Zale Delaware, Inc.; Subzone 39F (Assembly of Jewelry); Irving, Texas

On October 26, 2015, Zale Delaware, Inc., operator of Subzone 39F submitted a notification of proposed production activity to the Foreign-Trade Zones (FTZ) Board for its facility within FTZ 39-Subzone 39F in Irving, Texas.

The notification was processed in accordance with the regulations of the FTZ Board (15 CFR part 400), including notice in the Federal Register inviting public comment (80 FR 67704, November 3, 2015). The FTZ Board has determined that no further review of the activity is warranted at this time. The production activity described in the notification is authorized, subject to the FTZ Act and the Board's regulations, including Section 400.14.

Dated: March 1, 2016.
Andrew McGilvray,
Executive Secretary.

[FR Doc. 2016-06178 Filed 3-17-16; 8:45 am]

BILLING CODE 3510-DS-P